DEPARTMENT OF ENERGY

Federal Energy Regulatory Commission

Notice of Effectiveness of Exempt Wholesale Generator Status

January 20, 2010.

| Docket Nos.
Gilberton Power Company | EG10-1-000
CPV Keenan II Renewable Energy | EG10-2-000
Vantage Wind Energy LLC | EG10-3-000
Three Buttes Windpower, LLC | EG10-4-000
Grant County Wind, LLC | EG10-5-000

Take notice that during the month of December, 2009, the status of the above-captioned entities as Exempt Wholesale Generators became effective by operation of the Commission's regulations 18 CFR 366.7(a).

Kimberly D. Bose,
Secretary.

[FR Doc. 2010-1528 Filed 1-26-10; 8:45 am]

BILLING CODE 6717-01-P